DEPARTMENT OF STATE

[Public Notice 8434]

Culturally Significant Object Imported for Exhibition; Determinations: “Visiting Masterpiece: Piero della Francesca's Senigallia Madonna, an Italian Treasure, Stolen and Recovered” and “Piero della Francesca: Intimate Encounters”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236-3 of August 28, 2000 (and, as appropriate, Delegation of Authority No. 257 of April 15, 2003), I hereby determine that the object to be included in the exhibition “Visiting Masterpiece: Piero della Francesca's Senigallia Madonna, An Italian Treasure, Stolen and Recovered” at the Museum of Fine Arts and the exhibition “Piero della Francesca: Intimate Encounters” at The Metropolitan Museum of Art, imported from abroad for temporary exhibition within the United States, is of cultural significance. The object is imported pursuant to a loan agreement with the foreign owner or custodian. I also determine that the exhibition or display of the exhibit object at the Museum of Fine Arts, Boston, MA, from on or about September 13, 2013, until on or about January 6, 2014; the Metropolitan Museum of Art, New York, NY, from on or about January 13, 2014, until on or about March 30, 2014, and at possible additional exhibitions or venues yet to be determined, is in the national interest. I have ordered that Public Notice of these Determinations be published in the Federal Register.

FOR FURTHER INFORMATION CONTACT: For further information, including a list of the exhibit object, contact Julie Simpson, Attorney-Adviser, Office of the Legal Adviser, U.S. Department of State (telephone: 202-632-6467). The mailing address is U.S. Department of State, SA-5, L/PD, Fifth Floor (Suite 5H03), Washington, DC 20522-0505.

Dated: August 15, 2013.
Lee Satterfield,
Deputy Assistant Secretary for Professional and Cultural Exchanges, Bureau of Educational and Cultural Affairs, Department of State.

[FR Doc. 2013-20656 Filed 8-22-13; 8:45 am]

BILLING CODE 4710-05-P